DEPARTMENT OF THE INTERIOR

Bureau of Land Management

[LLMT921000-15X-L51100000.GA0000-LVEME15CE410; NDM 102083; MO# 4500119938]

Competitive Coal Lease Sale, North Dakota

AGENCY: Bureau of Land Management, Interior.

ACTION: Notice of coal lease sale.

SUMMARY: Notice is hereby given that coal resources in lands in Oliver County, North Dakota, will be offered for competitive lease by sealed bid in accordance with the provisions of the Mineral Leasing Act of 1920, as amended.

DATES: The lease sale will be held at 11 a.m. Mountain Time on October 10, 2018. Sealed bids must be submitted on or before 10 a.m., October 10, 2018.

ADDRESSES: The lease sale will be held in the 920 Conference Room of the Bureau of Land Management (BLM) Montana State Office, 5001 Southgate Drive, Billings, Montana 59101-4669. Sealed bids must be submitted to the Cashier, BLM Montana State Office, at this same address.

FOR FURTHER INFORMATION CONTACT: Gregory Fesko by telephone at 406-896-5080 or by email at gfesko@blm.gov. Persons who use telecommunication devices for the deaf (TDD) may call the Federal Relay Service (FRS) at 1-800-877-8339 to contact the above individual during normal business hours. The FRS is available 24 hours a day, 7 days a week, to leave a message or question with the above individual. You will receive a reply during normal business hours.

SUPPLEMENTARY INFORMATION: This sale is being held in response to a Lease-by- Application (LBA) filed by BNI Coal, Ltd. (BNI). The Federal coal resources to be offered are located in the following-described lands:

T.141 N, R. 83 W, 5th P.M.

sec. 18: NE¼.

The 160-acre tract, located in Oliver County, North Dakota, contains an estimated 2.4 million tons of surface mineable Federal coal resources. The tract contains one mineable coal bed, the Hagel A bed. The Hagel A bed averages approximately 9.0 feet in thickness with an average overburden thickness of 43 feet. The coal quality for the Hagel A bed averages 6,729 BTUs per pound in heating value, 39.31 percent moisture, 5.74 percent ash, 0.76 percent sulfur, and 6.23 percent sodium-in-ash content.

The tract will be leased to the qualified bidder of the highest cash amount, provided that the high bid meets or exceeds the BLM's estimate of the fair-market value of the tract. The minimum bid for the tract is $100 per acre or fraction thereof. The minimum bid is not intended to represent fair-market value. The fair-market value will be determined by the authorized officer after the sale.

The sealed bids should be sent by certified mail, return receipt requested, or be hand delivered to the Cashier, BLM Montana State Office, at the address provided in the ADDRESSES section and clearly marked “Sealed Bid for NDM 102083 Coal Sale—Not to be opened before 11 a.m. October 10, 2018.” The cashier will issue a receipt for each hand-delivered bid. Bids received after 10 a.m. will not be considered. If identical high bids are received, the tying high bidders will be requested to submit follow-up sealed bids until a high bid is received. All tie-breaking sealed bids must be submitted within 15 minutes following the sale official's announcement at the sale that identical high bids have been received. Prior to lease issuance, the high bidder, if other than the applicant, must pay to the BLM the cost-recovery fees in the amount of $240,321.00 in addition to all processing costs the BLM incurs after the date of this sale notice (43 CFR 3473.2).

A lease issued as a result of this offering will require payment of an annual rental of $3 per acre, or fraction thereof, and a royalty payable to the United States of 12.5 percent of the value of coal mined by surface methods. Bidding instructions for the tract offered and the terms and conditions of the proposed coal lease are included in the Detailed Statement of Lease Sale. Copies of the statement and the proposed coal lease are available at the Montana State Office. Casefile NDM 102083 is also available for public inspection at the Montana State Office.

Authority: 43 CFR 3422.3-2

Al Nash,
Acting State Director, BLM Montana/Dakotas.

[FR Doc. 2018-19299 Filed 9-5-18; 8:45 am]

BILLING CODE 4310-DN-P